DEPARTMENT OF HEALTH AND HUMAN SERVICES

Administration for Children and Families

Proposed Information Collection Activity; Comment Request

Title: Understanding the Dynamics of Disconnection from Employment and Assistance.

OMB No.: New Collection.

Description: The Administration for Children and Families (ACF), U.S. Department of Health and Human Services (HHS), is proposing a data collection activity as part of the “Understanding the Dynamics of Disconnection from Employment and Assistance” research project. The purpose of this study is to improve understanding of low-income individuals and families who are disconnected from employment and from public assistance and particularly those not receiving cash assistance through the Temporary Assistance for Needy Families (TANF) program. ACF is proposing to use a discussion guide to collect qualitative information from respondents who are low-income and disconnected from employment and public assistance. The guide will be used to interview respondents in order to learn about their experiences with disconnection. Topics will include recent employment and reasons for not working; use of public benefit programs and reasons for using or not using specific benefits; their financial circumstances and material well-being including the stability and sources of income, housing and living arrangements; their coping strategies for addressing their circumstances; and their views on potential pathways out of disconnectedness.

Respondents: Individuals who are low-income, disconnected from employment and public assistance, and living in low-income areas targeted by the study.

Annual Burden Estimates
Instrument | Annual number of respondents | Number of responses per respondent | Average burden hours per response | Total annual burden hours
Discussion Guide | 72 | 1 | 1.5 | 108

Estimated Total Annual Burden Hours: 108.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. Email address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 14, 2012.
Steven M. Hanmer,
Reports Clearance Officer.

[FR Doc. 2012-3945 Filed 2-21-12; 8:45 am]

BILLING CODE 4184-09-M